DEPARTMENT OF STATE

[Public Notice 6669]

Shipping Coordinating Committee; Notice of Subcommittee Meeting

The Shipping Coordinating Committee (SHC) will conduct an open meeting at 9:30 a.m. on Thursday, August 27, 2009, in Room 10-0718 of Jemal's Riverside Building, 1900 Half Street, SW., Washington, DC 20593-0001. The primary purpose of the meeting is to prepare for the Second Intersessional of the International Maritime Organization (IMO) Standards of Training and Watchkeeping (STW) to be held be held at the IMO Headquarters, United Kingdom, from September 7 to September 11, 2009.

The primary matters to be considered include:

—Comprehensive review of the STCW Convention and the STCW Code;

—Amendments to the various chapters of the Convention, and include;

—Chapter I—General Provisions;

—Chapter II—Master and deck department;

—Chapter III—Engine department;

—Chapter V—Special training requirements for personnel on certain types of ships;

—Chapter VI—Emergency, occupational safety, security, medical care and survival functions;

—Chapter VII—Alternative Certification;

—Chapter VIII—Watchkeeping.

Members of the public may attend this meeting up to the seating capacity of the room. To facilitate the building security process, those who plan to attend should contact the meeting coordinator; Ms. Zoe Goss by e-mail at zoe.a.goss@uscg.mil, by phone at (202) 372-1425, by fax at (202) 372-1926, or in writing at Commandant (CG-5212), U.S. Coast Guard Headquarters, 2100 2nd Street, SW., Room 1308, Washington, DC 20593-0001 not later than 72 hours before the meeting. Please note that due to security considerations, two valid, government issued photo identifications must be presented to gain entrance to the Headquarters building. The Headquarters building is accessible by taxi and privately owned conveyance (public transportation is not generally available). However, parking in the vicinity of the building is extremely limited. A member of the public needing reasonable accommodation should make his or her request by August 20th. Requests made after that date might not be possible to fulfill.

Additional information regarding this and other IMO SHC public meetings may be found at: http://www.uscg.mil/hq/cg5/imo.

Dated: August 6, 2009.
J. Trent Warner,
Executive Secretary, Shipping Coordinating Committee, Department of State.

[FR Doc. E9-19352 Filed 8-11-09; 8:45 am]

BILLING CODE 4710-09-P